ENVIRONMENTAL PROTECTION AGENCY

[FRL-7257-3]

EPA Science Advisory Board Notification of Public Advisory Committee Teleconference Meeting of the Clean Air Scientific Advisory Committee

Pursuant to the Federal Advisory Committee Act, Public Law 92-463, notice is hereby given that the Clean Air Scientific Advisory Committee (CASAC) Particulate Matter (PM) Review Panel will meet via public teleconference on Wednesday, August 28, 2002. For those in the Washington DC metro area, the meeting will be hosted out of the SAB Conference Room (Room 6013, USEPA, Ariel Rios Building, 1200 Pennsylvania Avenue, NW., Washington, DC 20004). The meeting will begin at 11 a.m. and adjourn no later than 2 p.m. Eastern Time. This meeting is open to the public; however, seating and teleconference lines are limited and available on a first come basis. Information on how to access the meeting via conference call is available from Ms. Zisa Lubarov-Walton (see contact information below). Important Notice: Documents that are the subject of SAB reviews are normally available from the originating EPA office and are not available from the SAB Office—information concerning availability of documents from the relevant Program Office is included below.

Purpose of the Meeting

The CASAC PM Review Panel will be briefed by Agency staff on plans to address issues raised at the July 18-19, 2002 Panel meeting (see 67 FR 41722, June 19, 2002 for details of that meeting). At that meeting, the Panel conducted a peer review of the EPA Air Quality Criteria for Particulate Matter (Third External Review Draft) prepared by EPA's National Center for Environmental Assessment (NCEA).

The focus of this meeting is for the EPA to (a) inform the Panel of its plans to coordinate the process of updating recent research identified at the July 18-19, 2002 meeting; (b) make necessary changes to the draft document (EPA Air Quality Criteria for Particulate Matter—Third External Review Draft); and (c) estimate the future review schedule for the revised draft document.

Availability of Review Materials

The draft review document (reviewed on July 18-19, 2002), EPA Air Quality Criteria for Particulate Matter (Third External Review Draft) assesses the latest available scientific information on the effects of airborne particulate matter (PM) on human health and welfare. To obtain a copy of the draft document, or to obtain further information concerning this document, please refer to 67 FR 31303, May 9, 2002. This review document is not available from the EPA Science Advisory Board.

The transcript of the July 18-19, 2002 will be available on the EPA Science Advisory Board website (http://www.epa.gov/sab/casacpmpanel.html) on or about the time this notice is published in the Federal Register.

A draft meeting agenda for the teleconference meeting will be available on the SAB website (http://www.epa.gov/sab/casacpmpanel.html) approximately one week prior to the meeting.

For Further Information

Any member of the public wishing further information concerning this meeting should contact Mr. A. Robert Flaak, Acting Deputy Director, EPA Science Advisory Board (1400A), U.S. Environmental Protection Agency, 1200 Pennsylvania Avenue, NW., Washington, DC 20460; telephone (202) 564-4546; FAX (202) 501-0852; or via e-mail at flaak.robert@epa.gov. For information on connecting to the teleconference, please contact Ms. Zisa Lubarov-Walton, EPA Science Advisory Board, Mail Code 1400A, U.S. Environmental Protection Agency, 1200 Pennsylvania Avenue, NW., Washington DC 20460 telephone (202) 564-4537, FAX (202) 501-0582; or via e-mail at lubarov-walton.zisa@epa.gov.

Public Comments

Since this meeting is a briefing on process and schedule, no public comments will be taken (oral or written). A public comment period will be part of the next formal peer review meeting of the Panel. This next meeting will be announced in the Federal Register and on the SAB website (http://www.epa.gov/sab).

Meeting Access

Individuals attending in person, and who will require special accommodation, including wheelchair access to the conference room, should contact Mr. Flaak at least five business days prior to the meeting so that appropriate arrangements can be made.

Dated: August 5, 2002.
A. Robert Flaak,
Acting Director, EPA Science Advisory Board.

[FR Doc. 02-20227 Filed 8-8-02; 8:45 am]

BILLING CODE 6560-50-P